DEPARTMENT OF TRANSPORTATION

Federal Highway Administration

Environmental Impact Statement: Stark, Columbiana, and Carroll Counties, OH

AGENCY: Federal Highway Administration (FHWA), DOT.

ACTION: Notice of Project Being Placed on Hold.

SUMMARY: The FHWA is issuing this notice to advise the public that the preparation of the Environmental Impact Statement (EIS) for a proposed transportation project in Stark, Columbiana, and Carroll Counties, Ohio is being placed on hold.

FOR FURTHER INFORMATION CONTACT: Mr. Dennis A. Decker, Division Administrator, Federal Highway Administration, 200 North High Street, Suite 328, Columbus, Ohio 43215, Telephone (614) 280-6896.

SUPPLEMENTARY INFORMATION: The FHWA is placing on hold the preparation of an EIS for a proposal to construct a highway improvement in Stark, Columbiana, and Carroll Counties, Ohio. The original notice of intent was issued on March 24, 1999. The project proposed transportation improvements to the U.S. 30 corridor from Trump Road in Stark County to State Route 11 in Columbiana County, Ohio. The project is being placed on hold because the Ohio Department of Transportation has decided not to pursue this project at this time. The project is expected to resume in the future, at which time FHWA will issue a notice alerting the public that the environmental process has resumed.

(Catalog of Federal Domestic Assistance Program Number 20.205, Highway Planning and Construction. The regulations implementing Executive Order 12372 regarding intergovernmental consultation on Federal programs and activities apply to this program.)

Issued on: June 23, 2008.
Dennis A. Decker,
Division Administrator, Federal Highway Administration, Columbus, Ohio.

[FR Doc. E8-14666 Filed 6-27-08; 8:45 am]

BILLING CODE 4910-22-P